DEPARTMENT OF JUSTICE

Drug Enforcement Administration

[Docket No. 3-4]

Anthony D. Dinozzi, D.D.S., Revocation of Registration

On September 25, 2002, the Deputy Assistant Administrator, Office of Diversion Control, Drug Enforcement Administration (DEA), issued an Order to Show Cause to Anthony David Dinozzi, D.D.S. (Respondent) notifying him of an opportunity to show cause as to why DEA should not revoke his DEA Certificate of Registration, BD4361692 under 21 U.S.C. 824(a)(2), (a)(3), and (a)(4). The Order to Show Cause further sought to deny any pending applications for renewal or modification of the Repsondent's registration for reasons that he was convicted of a felony offense related to controlled substances, is not authorized to handle controlled substances, and his continued registration would be inconsistent with the public interest.

Specifically, the Order to Show alleged that the Respondent is not authorized under state law to handle controlled substances based upon the March 31, 2001, expiration of his Pennsylvania state license to practice dentistry. The Order to Show Cause further alleged that the Respondent was convicted in Clermont County, Ohio on charges of Tampering with Evidence (a third degree felony) and Aggravated Trafficking in Drugs under Bulk (a fourth degree felony).

By letter dated October 11, 2002, the Respondent, acting pro se, timely requested a hearing in this matter. On October 25, 2002, the presiding Administrative Law Judge Mary Ellen Bittner (Judge Bittner) issued to the Government as well as the Respondent an Order for Prehearing Statements.

In view of filing a prehearing statement, the Government filed Government's Request for Stay of Proceedings and Motion for Summary Judgment. The Government asserted that the Respondent is without authorization to handle controlled substances in the State of Pennsylvania, and as a result, further proceedings in the matter were not required. On November 6, 2002, Judge Bittner issued a Memorandum to Counsel staying the Order for Filing Prehearing Statements, and afforded the Respondent until November 25, 2002, to respond to the Government's Motion. The Respondent did not file a response.

Accordingly, on January 13, 2003, Judge Bittner issued her Opinion and Recommended Decision of the Administrative Law Judge (Opinion and Recommended Decision). As part of her recommended ruling, Judge Bittner granted the Government's Motion for Summary Disposition and found that the Respondent lacked authorization to handle controlled substances in Pennsylvania, the jurisdiction in which the is registered with DEA. In granting the Government's motion, Judge Bittner also recommended that the Respondent's DEA registration be revoked and any pending applications for modification or renewal be denied. No exceptions were filed by either party to Judge Bittner's Opinion and Recommended Decision, and on February 19, 2003, the record of these proceedings was transmitted to the Office of the DEA Deputy Administrator.

The Acting Deputy Administrator has considered the record in its entirety and pursuant to 21 CFR 1316.67, hereby issues her final order based upon findings of fact and conclusions of law as hereinafter set forth. The Acting Deputy Administrator adopts, in full, the Opinion and Recommended Decision of the Administrative Law Judge.

The Acting Deputy Administrator finds that the Respondent currently possesses DEA Certificate of Registration BD4361692, and is registered to handle controlled substances in Pennsylvania. The Acting Deputy Administrator further finds that on March 31, 2001, the Respondent license to practice dentistry expired. There is no evidence before the Acting Deputy Administrator that the Respondent has applied for, and been granted renewal of his Pennsylvania dental license. Therefore, the Acting Deputy Administrator finds that the Respondent is currently not licensed to practice dentistry in Pennsylvania and as a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Kanwaljit S. Serai, M.D., 68 FR 48943 (2003); Dominick A. Ricci, M.D., 58 FR 51104 (1993); Bobby Watts, M.D., 53 FR 11919 (1988). The agency has further held that a person may not hold a DEA registration even if the loss of state authority is due to the expiration of state licensure without further action by the state. William D. Levitt, D.O., 64 FR 49,822 (1999).

Here, it is clear that the Respondent is not currently licensed to handle controlled substances in Pennsylvania, where he is registered with DEA. Therefore, he is not entitled to maintain that registration. Because the Respondent is not entitled to a DEA registration in Pennsylvania due to his lack of state authorization to handle controlled substances, the Acting Deputy Administrator concludes that it is unnecessary to address whether the Respondent's registration should be revoked based upon the other grounds asserted in the Order to Show Cause. See Cordell Clark, M.D., 68 FR 48942 (2003); Nathaniel-Aikens-Afful, M.D., 62 FR 16871 (1997); Sam F. Moore, D.V.M., 58 FR 14428 (1993).

Accordingly, the Acting Deputy Administrator of the Drug Enforcement Administration, pursuant to the authority vested in her by 21 U.S.C. 823 and 824 and 28 CFR 0.100(b) and 0.104, hereby orders that DEA Certificate of Registration, BD4361692, issued to Anthony David Dinozzi, D.D.S., be, and it hereby is, revoked. The Acting Deputy Administrator further orders that any pending applications for renewal of such registration be, and they hereby are, denied. This order is effective January 2, 2004.

Dated: November 13, 2003.
Michele M. Leonhart,
Acting Deputy Administrator.

[FR Doc. 03-29966 Filed 12-01-03; 8:45 am]

BILLING CODE 4410-09-M